DEPARTMENT OF STATE

[Public Notice 10411]

In the Matter of the Designation of ISIS in the Greater Sahara (ISIS-GS) Also Known as Islamic State in the Greater Sahara (ISGS) Also Known as Islamic State of the Greater Sahel Also Known as ISIS in the Greater Sahel Also Known as ISIS in the Islamic Sahel as a Foreign Terrorist Organization Pursuant to Section 219 of the Immigration and Nationality Act, as Amended

Based upon a review of the Administrative Record assembled in this matter, and in consultation with the Attorney General and the Secretary of the Treasury, I conclude that there is a sufficient factual basis to find that the relevant circumstances described in section 219 of the Immigration and Nationality Act, as amended (hereinafter “INA”), exist with respect to ISIS in the Greater Sahara (ISIS-GS), also known as Islamic State in the Greater Sahara (ISGS), also known as Islamic State of the Greater Sahel, also known as ISIS in the Greater Sahel, also known as ISIS in the Islamic Sahel.

Therefore, I hereby designate the aforementioned organization and its aliases as a foreign terrorist organization pursuant to section 219 of the INA.

This determination shall be published in the Federal Register.

John J. Sullivan,
Deputy Secretary of State.

[FR Doc. 2018-11007 Filed 5-22-18; 8:45 am]

BILLING CODE 4710-AD-P